SECURITIES AND EXCHANGE COMMISSION

17 CFR Parts 230, 240, 243, and 249

[Release Nos. 33-7815, 34-42552, IC-24343, File No. S7-31-99]

RIN 3235-AH82

Selective Disclosure and Insider Trading

AGENCY: Securities and Exchange Commission.

ACTION: Proposed rule; extension of comment period.

SUMMARY: The Securities and Exchange Commission is extending the comment period for its proposed rules regarding selective disclosure and insider trading, contained in Release No. 33-7787, 64 FR 72590 (Dec. 28, 1999). The original comment period ends March 29, 2000. The new deadline for submitting public comments is April 28, 2000.

DATES: Public comments are due on or before April 28, 2000.

ADDRESSES: Please send three copies of your comment letter to Jonathan G. Katz, Secretary, Securities and Exchange Commission, 450 5th Street, N.W., Washington, D.C. 20549-0609. Comments can also be sent electronically to the following e-mail address: rule-comments@sec.gov. Your comment letter should refer to File No. S7-31-99. If e-mail is used, include this file number on the subject line. Anyone can inspect and copy the comment letters in the Commission's Public Reference Room at 450 5th St., N.W., Washington, D.C. 20549. Electronically submitted comments will be posted on the Commission's Internet web site (http://www.sec.gov).

FOR FURTHER INFORMATION CONTACT: Richard A. Levine, Assistant General Counsel, Sharon Zamore, Senior Counsel, or Elizabeth Nowicki, Attorney, Office of the General Counsel, at (202) 942-0890.

SUPPLEMENTARY INFORMATION: On December 20, 1999, the Securities and Exchange Commission (Commission) issued a proposal for new rules to address three issues: the selective disclosure by issuers of material nonpublic information; whether insider trading liability depends on a trader's “use” or “knowing possession” of material nonpublic information; and when the breach of a family or other non-business relationship may give rise to liability under the misappropriation theory of insider trading. The proposals are designed to promote the full and fair disclosure of information by issuers, and to clarify and enhance existing prohibitions against insider trading. The deadline for submitting public comments established by the proposing release was March 29, 2000. The Commission has received requests to extend the deadline. We are therefore extending the comment period to April 28, 2000 so that commenters have adequate time to address the issues raised by the proposing release.

By the Commission.
Dated: March 21, 2000.
Margaret H. McFarland
Deputy Secretary

[FR Doc. 00-7433 Filed 3-24-00; 8:45 am]

BILLING CODE 8010-01-P